DEPARTMENT OF DEFENSE

Department of the Navy

Notice of Availability of Government-Owned Inventions; Available for Licensing

AGENCY: Department of the Navy, DoD.

ACTION: Notice.

SUMMARY: The Department of the Navy hereby gives notice of the general availability of exclusive or partially exclusive licenses under the following pending patents. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status. The subject patent application of this notice is U.S. Patent Application Serial No. 06/795,843 entitled “Pulse Sampled Optical Fiber Hydrophone”, filed September 5, 1985.

DATES: Applications for an exclusive or partially exclusive license may be submitted at any time from the date of this notice.

FOR FURTHER INFORMATION CONTACT: Dr. Theresa A. Baus, Office of Technology Transfer, Naval Undersea Warfare Center, 1176 Howell St., Newport, RI 02841, telephone (401) 832-8728 or e-mail at bausta@npt.nuwc.navy.mil.

(Authority: 35 U.S.C. 207, 37 CFR part 404.)

Dated: July 12, 2002.
R.E. Vincent, II,
Lieutenant Commander, Judge Advocate General's Corps, U.S. Navy, Federal Register Liaison Officer.

[FR Doc. 02-18654 Filed 7-23-02; 8:45 am]

BILLING CODE 3810-FF-P